DEPARTMENT OF THE TREASURY

Federal Law Enforcement Training Center

FLETC Cheltenham, MD; Notice of Availability of Document for Review

AGENCY: Federal Law Enforcement Training Center, Treasury.

ACTION: Notice of availability of environmental assessment for public review.

SUMMARY: Notice is hereby given that the Federal Law Enforcement Training Center (FLETC), pursuant to the National Environmental Policy Act of 1969 (NEPA), the Council on Environmental Quality Regulations for Implementing the National Environmental Policy Act (40 CFR parts 1500-1508), and Department of the Treasury Directive 75-02 (Department of the Treasury Environmental Quality Program), has prepared an Environmental Assessment (EA) related to the renovation of the former Naval Communications Detachment Cheltenham, MD to provide a law enforcement requalification training facility for use by a wide variety of federal, state, and local agencies located in the metropolitan Washington, DC area. The proposed action includes demolition and renovation of existing buildings for use as classrooms, simulators, locker facilities, storage, etc., and construction of a free-standing, completely enclosed, environmentally safe indoor firearms training range and an outdoor vehicle training range. Vegetation manipulation will occur for aesthetic purposes, wildlife habitat improvement, wildfire hazard control, and insect/disease reduction.

The public and resource agencies were invited to attend a public meeting held October 24, 2001, and participate in the planning and analysis of the proposed project. At that meeting the FLETC discussed the environmental review process, described the project and alternatives under consideration, discussed the scope of environmental issues to be investigated in accordance with the requirements of NEPA, and answered questions from attendees.

An Environmental Assessment document has been prepared in accordance with NEPA and Department of the Treasury requirements, addressing the various project alternatives, their potential environmental impacts, and issues raised during the October 24 public meeting. This document will be available for public review and comment from December 17, 2001 until January 16, 2002 at the following locations:

1. Prince George's County Memorial Library System, Surratts-Clinton Branch, 9400 Piscataway Road, Clinton, MD 20735, 301-868-9200

2. Department of the Treasury, Library, Main Treasury Building, 1500 Pennsylvania Avenue NW, Washington, DC 20220, Contact Bill McGovern at 282-622-0043

The EA will also be viewable as a PDF file on the FLETC's Internet site at http://www.fletc.gov/evs/cheltenham.htm for the same time period.

Significant comments received from the public and agencies during the review period will be addressed in the EA and included in an Appendix. Should the FLETC determine, based on the public's comments and the information presented in the Environmental Assessment, that the impacts of the demolition/renovation, construction, and operation of the facility will not have a significant environmental impact, it will prepare a Finding of No Significant Impact (FONSI) for publication in the Federal Register and in a newspaper in general circulation at the project location. Should significant environmental impacts be determined to exist due to the project, the FLETC will proceed with the preparation of an Environmental Impact Statement, per the requirements of NEPA, the Council on Environmental Quality, and its own environmental policies and procedures.

DATES: Written comments concerning the EA should be received on or before January 16, 2002, to be assured of consideration.

ADDRESSES: Direct all written comments to Ms. Susan Shaw, NEPA Coordinator/Project Manager, c/o FLETC Cheltenham Facility, 9000 Commo Road, Cheltenham, MD 20623-5000.

FOR FURTHER INFORMATION CONTACT: Susan Shaw, NEPA Coordinator/Project Manager, FLETC, at (912) 261-4557. Ms. Shaw's e-mail address is sshaw@fletc.treas.gov. Information is also available from Bob Smith, Chief, Cheltenham Operations at (301) 868-5830. Mr. Smith's e-mail address is rsmith@fletc.treas.gov.

SUPPLEMENTARY INFORMATION: The Federal Law Enforcement Training Center has a mission of providing high quality, cost-effective training of federal law enforcement personnel. The FLETC proposes with this action to provide requalification-training services in the Washington, DC area by renovating the former Naval Communications Detachment Cheltenham, MD facility, which has been inactive since 1998. Providing these requalification services in the Washington, DC area will eliminate the need for Washington, DC area law enforcement agencies to travel to the FLETC's Glynco, GA facility, reducing associated costs and time demands.

The FLETC Cheltenham facility is located approximately 15 miles southeast of Washington, DC, in Prince George's County, MD. The project site is situated east of Maryland Route 5 and west of Maryland Route 301, approximately 3 miles south of Andrews Air Force Base.

Authority: The Council on Environmental Quality's National Environmental Policy Act, 40 CFR parts 1500 et seq.

Dated: December 5, 2001.
Bruce Bowen,
Assistant Director, Office Of Compliance, Federal Law Enforcement Training Center.

[FR Doc. 01-30424 Filed 12-7-01; 8:45 am]

BILLING CODE 4810-32-P